DEPARTMENT OF AGRICULTURE

Commodity Credit Corporation

Farm Service Agency

Notice of Intent To Prepare a Supplemental Environmental Impact Statement for the Conservation Reserve Program

AGENCY: Commodity Credit Corporation and Farm Service Agency, USDA.

ACTION: Notice of Intent (NOI) and request for comments.

SUMMARY: This notice announces that the Farm Service Agency (FSA), on behalf of the Commodity Credit Corporation (CCC), intends to complete a Supplemental Environmental Impact Statement (SEIS) assessing the environmental impacts of changes to the Conservation Reserve Program (CRP) required by the Food, Conservation, and Energy Act of 2008 (2008 Farm Bill).

DATES: To ensure the full range of the issues and alternatives related to CRP are addressed, FSA invites comments. We will consider comments that we receive by October 19, 2009. Comments received after this date will be considered to the extent possible. See the SUPPLEMENTARY INFORMATION section for dates and addresses for nine public meetings.

ADDRESSES: We invite you to submit comments on this Notice of Intent. In your comments, include the volume, date, and page number of this issue of the Federal Register. You may submit comments by any of the following methods:

• E-Mail: CRPcomments@tecinc.com.

• Online: Go to http://public.geo-marine.com. Follow the online instructions for submitting comments.

• Fax: (757) 594-1469.

• Mail: CRP SEIS, c/o TEC Inc., 8 San Jose Drive, Suite 3-B, Newport News, Virginia 23606.

• Hand Delivery or Courier: Deliver comments to the above address.

• Federal eRulemaking Portal: Go to http://www.regulations.gov. Follow the online instructions for submitting comments.

Comments may be inspected in the Office of the Director, CEPD, FSA, USDA, 1400 Independence Ave, SW., Room 4709 South Building, Washington, DC, between 8 a.m. and 4:30 p.m., Monday through Friday, except holidays.

FOR FURTHER INFORMATION CONTACT: Matthew Ponish, National Environmental Compliance Manager, USDA, FSA, CEPD, Stop 0513, 1400 Independence Ave, SW., Washington, DC 20250-0513, (202) 720-6853, or email: Matthew.Ponish@wdc.usda.gov. Persons with disabilities who require alternative means for communication (Braille, large print, audio tape, etc.) should contact the USDA Target Center at (202) 720-2600 (voice and TDD). More detailed information on CRP may be obtained at http://www.fsa.usda.gov/FSA/webapp?area=home&subject=copr&topic=crp.

SUPPLEMENTARY INFORMATION: The SEIS is being prepared on CRP to provide FSA decision makers and the public with an analysis that evaluates program effects in appropriate contexts, describes the intensity of adverse as well as beneficial impacts, and addresses cumulative impacts of CRP. CRP is authorized by the Food Security Act of 1985 (the 1985 Farm Bill), as amended and is governed by regulations published in 7 CFR part 1410. CRP is a voluntary program that supports the implementation of long-term conservation measures designed to improve the quality of ground and surface waters, control soil erosion, and enhance wildlife habitat on environmentally sensitive agricultural land. In return, CCC provides participants with rental payments and cost share assistance under contracts extending from 10 to 15 years. CRP is a CCC program administered by FSA with the support of other Federal and local agencies.

In 2003, an Environmental Impact Statement (EIS) was completed by FSA for the CRP evaluating the environmental consequences of implementing the Farm Security and Rural Investment Act of 2002. This SEIS will assess the potential environmental impacts of changes made to the program in provisions of the 2008 Farm Bill (Pub. L. 110-246). The changes that will be assessed in the SEIS are:

• In general, the CRP purposes now explicitly include addressing issues raised by state, regional and national conservation initiatives (see 16 U.S.C. 3831(a)).

• The cropping history requirements are updated to 4 of 6 years from 2002 to 2007 (see 16 U.S.C. 3831(b)).

• The enrollment authority is set at 39.2 million acres through 2009 and reduced to 32.0 million acres for fiscal years 2010, 2011, and 2012 (see 16 U.S.C. 3831(d)).

• Alfalfa and multiyear grasses and legumes in a rotation practice with an agricultural commodity may contribute towards meeting crop history requirements (see 16 U.S.C. 3831(g)).

• The authority is granted to except acreage enrolled under continuous signup and the Conservation Reserve Enhancement Program provided county government concurs (see 16 U.S.C. 3831(b)).

• CCC requires management by the participant throughout the contract term to implement the conservation plan (see 16 U.S.C 3843).

• CCC provides exceptions to general prohibitions (see 16 U.S.C. 3844) on use including:

○ Managed harvesting with appropriate vegetation management during named periods and with a payment reduction,

○ Managed harvesting for biomass with appropriate vegetation management during named periods and with a payment reduction,

○ Grazing for invasive species with appropriate vegetation management during named periods and with a payment reduction, and

○ Installation of wind turbines with appropriate vegetation management during named periods and with a payment reduction.

• Annual survey of dryland and cash rental rates by the National Agricultural Statistics Service (see 16 U.S.C. 3843(c)).

• Incentives for beginning or socially disadvantaged farmers or ranchers to facilitate a transition of land enrolled in CRP from a retired or retiring owner or operator to return some or all of the land to agricultural production using sustainable grazing or crop production methods (see 16 U.S.C. 3835).

• Adds incentives for socially disadvantaged farmers and ranchers as well as limited resource farmers and ranchers and Indian tribes to participate in conservation programs (see 16 U.S.C. 3844).

• Development of habitat for native and managed pollinators and use of conservation practices that benefit them are encouraged for any conservation program (see 16 U.S.C. 3844).

The SEIS will help FSA review potential environmental impacts resulting from the 2008 Farm Bill changes to the CRP program. The results of the SEIS will be used in implementing and modifying CRP administration. The record of decision resulting from the SEIS will also serve as guidance to FSA program decision makers when considering future CRP changes.

Under the National Environmental Policy Act (NEPA), the SEIS process provides a means for the public to provide input on program implementation alternatives and on environmental concerns. The public is urged to participate in helping to define the scope of the proposed SEIS. In addition to allowing the opportunity to comment via mail, the internet, and e-mail as provided in the above ADDRESSES section, FSA plans to hold nine public scoping meetings to provide information and opportunities for discussing the issues and alternatives to be covered in the draft SEIS, and to receive oral and written comments. The meetings will be held at the following locations and times:

Date | Time | Location information
September 15, 2009 | 5:30-7:30 p.m. local time | Hilton Garden Inn Spokane Airport, 9015 West SR Highway 2, Spokane, WA 99224, (509) 244-5866.
September 17, 2009 | 5-7 p.m. local time | Hampton Inn Great Falls, 2301 14th St., SW., Great Falls, MT 59404, (406) 453-2675.
September 21, 2009 | 5-7 p.m. local time | AmericInn Lodge & Suites and Event Center of Moorhead, 600 30th Ave., S., Moorhead, MN 56560, (218) 287-7100.
September 23, 2009 | 5-7 p.m. local time | Clarion Hotel, 530 Richards Drive, Manhattan, KS 66502, (785) 539-5311.
September 25, 2009 | 5-7 p.m. local time | Hilton Garden Inn, Springfield, 3100 S. Dirksen Parkway, Springfield, IL 62703, (217) 529-7171 ext. 507.
September 29, 2009 | 5-7 p.m | Oklahoma City Marriott Hotel, 3233 N.W. Expressway, Oklahoma City, OK 73112, (405) 879-7042.
October 1, 2009 | 5-7 p.m. local time | La Quinta Inn & Suites Clovis, 4521 N. Prince St., Clovis, NM 88101, (575) 763-8777.
October 6, 2009 | 5-7 p.m. local time | Hilton Garden Inn Albany, 101 S. Front Street, Albany, GA 31701, (229) 888-1590.
October 8, 2009 | 5-7 p.m. local time | Courtyard by Marriott Harrisburg/Hershey, 725 Eisenhower Blvd, Harrisburg, PA 17111, (717) 558-8544 ext. 6504.

Please check http://public.geo-marine.com for specific meeting locations, times, directions, and comment forms.

Description of Preliminary Alternatives

FSA has developed a set of preliminary alternatives to be studied in the draft SEIS to initiate the process. The alternatives will be amended, as appropriate, based on input by the public and agencies during the public scoping process. The SEIS will address the following alternatives, which include recommended changes to the program:

• No Action Alternative—continuation of CRP as currently implemented.

• Action Alternative 1—full implementation of the applicable 2008 Farm Bill provisions in accordance with current procedures.

• Action Alternative 2—implementation of CRP in accordance with applicable 2008 Farm Bill provisions exercising discretion that differs from current procedures.

Signed in Washington, DC on August 28, 2009.
Jonathan W. Coppess,
Executive Vice President, Commodity Credit Corporation, and Administrator, Farm Service Agency.

[FR Doc. E9-21236 Filed 9-2-09; 8:45 am]

BILLING CODE 3410-05-P